DEPARTMENT OF TRANSPORTATION

Federal Highway Administration

Agency Information Collection Activities: Submission for OMB Review

AGENCY: Federal Highway Administration (FHWA), DOT.

ACTION: Notice and request for comments.

SUMMARY: The FHWA has forwarded the information collection request described in this notice to the Office of Management and Budget (OMB) for review and approval. We published a Federal Register Notice with a 60-day public comment period on this information collection on August 6, 2002. We are required to publish this notice in the Federal Register by the Paperwork Reduction Act of 1995.

DATES: Please submit comments by June 2, 2003.

ADDRESSES: You may send comments to the Office of Information and Regulatory Affairs, Office of Management and Budget, 725 17th Street, NW., Washington, DC 20503, Attention: DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information.

SUPPLEMENTARY INFORMATION:

Title: Survey of Drivers' Attitudes on Speeding and Speed Limits.

Abstract: The FHWA plans to enter into a cooperative agreement with the State of Massachusetts to initiate a project entitled “Demonstration and Evaluation of Rational Speed Limits,” to be performed by the Governor's Highway Safety Bureau of the Commonwealth of Massachusetts. As part of this cooperative agreement, information on local drivers' attitudes towards speeding, speed limits and enforcement will be gathered through a survey. A survey will be performed both before and after engineering, enforcement and educational measures to reduce speeding are implemented. The information obtained from the survey will help the FHWA understand the effectiveness of the measures and drivers' responses to them. The responses to the survey will be voluntary and will not involve information that is required by regulations. There will be not direct costs to the respondents other than their time.

Respondents: Drivers in Natick, Massachusetts.

Estimated Total Annual Burden: The burden hours per response will be approximately 10 minutes. We estimate that a total of 800 drivers (400 “before” and 400 “after”) will be involved in the survey. Therefore, the total estimate is 133 burden hours.

FOR FURTHER INFORMATION CONTACT: Ms. Elizabeth Alicandri, 202-366-6409, Office of Highway Safety, Federal Highway Administration, Department of Transportation, 400 Seventh Street, SW., Washington, DC 20590. Office hours are from 7:00 a.m. to 3:30 p.m., Monday through Friday, except Federal holidays.

Electronic Access: Internet users may access all comments received by the U.S. DOT Dockets, Room PL-401, by using the universal resource locator (URL): http://dms.dot.gov. It is available 24 hours each day, 365 days each year. Please follow the instructions online for more information and help. An electronic copy of this document may be downloaded using a modem and suitable communications software from the Government Printing Office Electronic Bulletin Board Service at telephone number 303-512-1661. Internet users may reach the Federal Register home page at http://www.nara.gov/fedreg and the Government Printing Office's database at http://www.access.gpo.gov/nara.

Authority: The Paperwork Reduction Act of 1995; 44 U.S.C. chapter 35, as amended; and 49 CFR 1.48.

Issued on: February 7, 2003.
James R. Kabel,
Chief, Management Programs and Analysis Division.

[FR Doc. 03-7352 Filed 4-1-03; 8:45 am]

BILLING CODE 4910-22-M